PRESIDIO TRUST

Notice of Receipt of and Availability for Public Comment on an Application for Wireless Telecommunications Facilities Site; The Presidio of San Francisco, California.

AGENCY: The Presidio Trust.

ACTION: Public notice.

SUMMARY: This notice announces the Presidio Trust's receipt of and availability for public comment on an application from Bay Area Cellular Telephone Company, Sprint PCS, for colocation at an existing wireless telecommunications facilities site (“the project”) in the Presidio of San Francisco. The proposed location of the project is in the parking area located directly below the Doyle Drive overpass in the vicinity of the intersection of Halleck and Vallejo Streets.

The project involves (i) replacing a single existing utility pole (installed by Cellular One) with a taller, slightly broader pole to accommodate three additional antenna panels, and (ii) placing the associated radio equipment within a nearby building. The utility pole will be approximately 65 feet tall, 15 feet taller than the existing Cellular One pole. Power for the project will be provided through underground coaxial cables connected to existing power sources. Connection to telephone lines will be through existing telephone lines.

COMMENTS: Comments on the proposed project must be sent to Devon Danz, Presidio Trust, 34 Graham Street, P.O. Box 29052, San Francisco, CA 94129-0052, and be received by November 13, 2000. A copy of Sprint PCS's application is available upon request to the Presidio Trust.

FOR FURTHER INFORMATION CONTACT: Devon Danz, Presidio Trust, 34 Graham Street, P.O. Box 29052, San Francisco, CA 94129-0052. Email: ddanz@presidiotrust.gov. Telephone: 415-561-5300.

Dated: October 4, 2000.
Karen A. Cook,
General Counsel.

[FR Doc. 00-26005 Filed 10-10-00; 8:45 am]

BILLING CODE 4310-4R-U